DEPARTMENT OF JUSTICE

Antitrust Division

Notice Pursuant to the National Cooperative Research and Production Act of 1993—Petroleum Environmental Research Forum Project 2011-06

Notice is hereby given that, on December 19, 2013, pursuant to Section 6(a) of the National Cooperative Research and Production Act of 1993, 15 U.S.C. 4301 et seq. (“the Act”), Petroleum Environmental Research Forum Project 2011-06 (“Project 2011-06”) has filed written notifications simultaneously with the Attorney General and the Federal Trade Commission disclosing (1) the identities of the parties to the venture and (2) the nature and objectives of the venture. The notifications were filed for the purpose of invoking the Act's provisions limiting the recovery of antitrust plaintiffs to actual damages under specified circumstances.

Pursuant to Section 6(b) of the Act, the identities of the parties to the venture are Chevron U.S.A. Inc., San Ramon, CA; Phillips 66 Company, Houston, TX; Total SA, Paris La Defense, FRANCE; ExxonMobil Research and Engineering Company, Fairfax, VA; and BP Products North America, Inc., Naperville, IL. The general area of Project 2011-06's planned activity is that Chevron, Phillips 66, Total, ExxonMobil, and BP are jointly undertaking Project 2011-06 to realize efficiencies in understanding and improving cooling tower PM emission measurement and estimation methods.

Patricia A. Brink,
Director of Civil Enforcement, Antitrust Division.

[FR Doc. 2014-03614 Filed 2-19-14; 8:45 am]

BILLING CODE P